SECURITIES AND EXCHANGE COMMISSION

[Release No. IC-27148]

Notice of Applications for Deregistration Under Section 8(f) of the Investment Company Act of 1940

November 18, 2005.

The following is a notice of applications for deregistration under section 8(f) of the Investment Company Act of 1940 for the month of November 2005. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on December 13, 2005, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-9303.

FOR FURTHER INFORMATION CONTACT: Diane L. Titus at (202) 551-6810, SEC, Division of Investment Management, Office of Investment Company Regulation, 100 F Street, NE., Washington, DC 20549-0504.

Hilliard Lyons Research Trust [File No. 811-9281]

Summary: Applicant seeks an order declaring that it has ceased to be an investment company. On August 31, 2005, applicant transferred its assets to The RBB Fund, Inc., based on net asset value. Expenses of approximately, $448,249 incurred in connection with the reorganization were paid by J.J.B. Hilliard, W.L. Lyons, Inc., of which Hilliard Lyons Research Advisors, applicant's investment adviser, is a division.

Filing Dates: The application was filed on September 27, 2005, and amended on November 7, 2005.

Applicant's Address: Hilliard Lyons Center, 501 South Fourth St., Louisville, KY 40202.

Centurion Counsel Market Neutral [File No. 811-3257]

Summary: Applicant seeks an order declaring that it has ceased to be an investment company. On September 15, 2005, applicant made a liquidating distribution to its shareholders, based on net asset value. Applicant incurred approximately $7,000 in expenses in connection with the liquidation.

Filing Dates: The application was filed on September 19, 2005, and amended on November 4, 2005.

Applicant's Address: 365 South Rancho Santa Fe Rd., Suite 300, San Marcos, CA 92078.

Hillier Funds Trust [File No. 811-21568]

Summary: Applicant seeks an order declaring that it has ceased to be an investment company. On March 18, 2005, applicant made a liquidating distribution to its shareholders, based on net asset value. Applicant incurred no expenses in connection with the liquidation.

Filing Dates: The application was filed on September 30, 2005, and amended on November 7, 2005.

Applicant's Address: 36 West 8th St., Suite 210, Holland, MI 49423.

Special Money Market Fund, Inc. [File No. 811-5951]

Summary: Applicant seeks an order declaring that it has ceased to be an investment company. On March 11, 2005, applicant transferred its assets to MoneyMart Assets, Inc., based on net asset value. Expenses of $148,000 incurred in connection with the reorganization were paid by applicant and the acquiring fund.

Filing Dates: The application was filed on September 2, 2005, and amended on November 7, 2005.

Applicant's Address: Gateway Center Three, 100 Mulberry St., Newark, NJ 07102-4077.

Davis Park Series Trust [File No. 811-10141]

Summary: Applicant seeks an order declaring that it has ceased to be an investment company. On January 14, 2005, applicant made a liquidating distribution to its shareholders, based on net asset value. Expenses of $13,044 incurred in connection with the liquidation were paid by Ameristock Corporation, applicant's investment adviser.

Filing Dates: The application was filed on July 29, 2005, and amended on October 27, 2005.

Applicant's Address: 1320 Harbor Bay Parkway, Suite 145, Alameda, CA 94502.

Adhia Funds, Inc. [File No. 811-8775]

Summary: Applicant seeks an order declaring that it has ceased to be an investment company. On October 3, 2005, applicant made a liquidating distribution to its shareholders, based on net asset value. Expenses of $10,798 incurred in connection with the liquidation were paid by applicant and its investment adviser, Adhia Investment Advisors, Inc.

Filing Dates: The application was filed on October 11, 2005, and amended on October 28, 2005.

Applicant's Address: 1408 N Westshore Blvd., Suite 611, Tampa, FL 33607.

Combined Penny Stock Fund, Inc. [File No. 811-3888]

Summary: Applicant, a closed-end investment company, seeks an order declaring that it has ceased to be an investment company. On July 28, 2005, applicant made a liquidating distribution to its shareholders, based on net asset value. Expenses of $57,906 incurred in connection with the liquidation were paid by applicant. Applicant has retained $31,462 in cash to cover certain remaining liquidation expenses.

Filing Dates: The application was filed on August 1, 2005, and amended on September 29, 2005.

Applicant's Address: 5373 N. Union Blvd., #100, Colorado Springs, CO 80918.

Investors Mark Series Fund, Inc. [File No. 811-8321]

Summary: Applicant seeks an order declaring that it has ceased to be an investment company. On July 13, 2005, applicant made a liquidating distribution to its shareholders, based on net asset value. Investors Mark Advisor, LLC, applicant's investment adviser, paid all expenses incurred in connection with the liquidation.

Filing Date: The application was filed on September 20, 2005.

Applicant's Address: 100 South Fifth Street, Suite 2300, Minneapolis, MN 55402.

Gateway Variable Insurance Trust [File No. 811-10375]

Summary: Applicant seeks an order declaring that it has ceased to be an investment company. On August 12, 2005, applicant made a liquidating distribution to all shareholders, based on net asset value. Gateway Investment Advisers, L.P., applicant's investment adviser, paid all expenses incurred in connection with the liquidation.

Filing Dates: The application was filed on June 28, 2005 and amended on October 21, 2005.

Applicant's Address: Rookwood Tower, Suite 600, 3805 Edwards Road, Cincinnati, OH 45209.

For the Commission, by the Division of Investment Management, pursuant to delegated authority.
Jonathan G. Katz,
Secretary.

[FR Doc. E5-6555 Filed 11-25-05; 8:45 am]

BILLING CODE 8010-01-P